DEPARTMENT OF COMMERCE

National Oceanic and Atmospheric Administration

RIN 0648-XC521

Marine Mammals; File No. 16632

AGENCY: National Marine Fisheries Service (NMFS), National Oceanic and Atmospheric Administration (NOAA), Commerce.

ACTION: Notice; receipt of application.

SUMMARY: Notice is hereby given that the NMFS Pacific Islands Fisheries Science Center, Hawaiian monk seal Research Program (Responsible Party, Frank Parrish), has applied in due form for a permit to conduct research on and enhancement of Hawaiian monk seals (Monachus schauinslandi).

DATES: Written, telefaxed, or email comments must be received on or before April 15, 2013.

ADDRESSES: The application and related documents are available for review on the following Web site: http://www.nmfs.noaa.gov/pr/permits/eis/hawaiianmonksealeis.htm. The application is also available by selecting “Records Open for Public Comment” from the Features box on the Applications and Permits for Protected Species (APPS) home page, https://apps.nmfs.noaa.gov, and then selecting File No. 16632 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

Written comments on this application should be submitted to the Chief, Permits, and Conservation Division, at the address listed above. Comments may also be submitted by facsimile to (301) 713-0376, or by email to monkseal@noaa.gov. Please include the File No. 16632 in the subject line of the email comment.

Those individuals requesting a public hearing should submit a written request to the Chief, Permits and Conservation Division at the address listed above. The request should set forth the specific reasons why a hearing on this application would be appropriate.

FOR FURTHER INFORMATION CONTACT: Amy Sloan or Colette Cairns, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a 5-year permit to carry out research and enhancement activities designed to recover the endangered Hawaiian monk seal. Activities would occur along beaches and nearshore waters throughout the Hawaiian Archipelago (Northwestern Hawaiian Islands [NWHI] and main Hawaiian Islands [MHI]) and Johnston Atoll.

Research is intended to identify impediments to recovery, inform the design of conservation interventions, and evaluate those measures. Research activities include visual and photographic monitoring, tagging, pelage bleach marking, health screening, foraging studies, deworming research, experimental translocation, necropsies, tissue sampling, import/export of parts, behavioral modification research, and vaccination research.

Enhancement activities are designed to improve the survival and reproductive success of individual monk seals, with the intent to improve subpopulation and overall species' status. Enhancement activities include deworming, translocation, hazing and removal of aggressive adult male seals that harm or kill other seals, disentangling, dehooking, treating injured seals in-situ, behavioral modification, vaccination, and supplemental feeding of post-release rehabilitated seals.

The number of seals to be taken by take type (annually, unless otherwise specified) would be 2,115 monitoring; 620 tagging and 35 sonic tagging; 1,495 bleach marking; 130 health screening; 10 moribund seals by euthanasia; 60 instrumentations; 300 de-worming treatments; translocations of nursing pups to birth or foster mother as warranted (estimated 20 pups); translocations of weaned pups to alleviate risk as warranted (estimated 60 seals); 20 translocations of weaned pups and 30 juvenile/subadults as part of two-stage translocation for enhancement (no seals would be moved from the NWHI to the MHI as part of two-stage translocation); 6 translocations of juveniles/subadults/adults for research; hazing aggressive adult males from conspecifics as warranted (estimated 10 seals); 20 adult male removals (including up to 10 lethal removals over five years); 10 captive adult males treated with testosterone reduction drug; unlimited (i.e., as warranted) disentanglements, dehookings, in-situ treatments, necropsies, opportunistic samplings and import/export (world-wide, including import and export of Mediterranean monk seal (Monachus monachus) samples); 12 seals supplementary fed; 20 seals subject to behavioral modification; 1,100 seals vaccinated; and 400 seals incidentally harassed. The following lethal takes are annually/not to exceed in five years: 2/4 seals during research, 2/4 weaned pups during enhancement, 4/8 juveniles/subadults during enhancement, and 2/4 adult males during enhancement. Research on captive monk seals to test and validate field studies is also proposed. Up to 500 spinner dolphins (Stenella longirostris), and 20 bottlenose dolphins (Tursiops truncatus) may be incidentally harassed annually during research and enhancement activities.

In compliance with the National Environmental Policy Act of 1969 (42 U.S.C. 4321 et seq.), NMFS is preparing a Final Programmatic Environmental Impact Statement (PEIS) for Hawaiian monk seal Recovery Actions. A Draft PEIS for Hawaiian monk seal Recovery Actions was made available to the public in 2011 (76 FR 51945). The intent of the PEIS is to evaluate the potential direct, indirect, and cumulative impacts on the human environment of the alternative approaches to implementing recovery actions, including research and enhancement activities requiring a permit. Information about the PEIS is available on the following Web site: http://www.nmfs.noaa.gov/pr/permits/eis/hawaiianmonksealeis.htm.

Concurrent with the publication of this notice in the Federal Register, NMFS is forwarding a copy of the application to the Marine Mammal Commission and its Committee of Scientific Advisors.

Dated: February 26, 2013.
P. Michael Payne,
Chief, Permits and Conservation Division, Office of Protected Resources, National Marine Fisheries Service.

[FR Doc. 2013-04751 Filed 2-28-13; 8:45 am]

BILLING CODE 3510-22-P